DEPARTMENT OF THE INTERIOR

Bureau of Land Management

[LLNMP02000 L71220000.EX0000 LVTFGX9G4200]

Notice of Intent To Prepare an Environmental Impact Statement for the Proposed HB Potash, LLC—“In-Situ” Solution Mine Project, Eddy County, NM

AGENCY: Bureau of Land Management, Interior.

ACTION: Notice of Intent.

SUMMARY: In compliance with the National Environmental Policy Act of 1969, as amended, (NEPA) and the Federal Land Policy and Management Act of 1976, as amended, the Bureau of Land Management (BLM) Carlsbad Field Office, Carlsbad, New Mexico, intends to prepare an Environmental Impact Statement (EIS) and by this notice is announcing the beginning of the scoping process to solicit public comments and to identify issues.

DATES: This notice initiates the public scoping process for the EIS. Comments on issues may be submitted in writing until February 11, 2010. The date(s) and location(s) of any scoping meetings will be announced at least 15 days in advance through the local media, including newspapers and the BLM Web site at: http://www.blm.gov/nm/st/en/fo/Carlsbad_Field_Office.html. In order to be included in the Draft EIS, all comments must be received prior to the close of the scoping period or 15 days after the last public meeting, whichever is later. We will provide additional opportunities for public participation upon publication of the Draft EIS.

ADDRESSES: You may submit comments related to the HB Potash, LLC—“In-Situ” Solution Mine Project by any of the following methods:

• E-mail: Rebecca_Hunt@blm.gov.

• Fax: (575) 885-9264.

• Mail: Bureau of Land Management, Carlsbad Field Office, Attention: Rebecca Hunt, 620 E. Greene St., Carlsbad, NM 88220.

Documents pertinent to this proposal may be examined at the Carlsbad Field Office.

FOR FURTHER INFORMATION CONTACT: For further information and/or to have your name added to our mailing list, contact Rebecca Hunt, Planning and Environmental Coordinator, telephone (575) 234-5995; address: Carlsbad Field Office, Attention: Rebecca Hunt, 620 E. Greene St., Carlsbad, NM 88220; e-mail Rebecca_Hunt@blm.gov.

SUPPLEMENTARY INFORMATION: HB Potash, LLC, (Intrepid) is proposing to construct and operate an “in-situ” solution mining project that would involve injecting saline water into previously mined, existing potash mine workings, dissolving the potash and creating a mineral-rich solution, and pumping that solution back to the surface. This solution, called “pregnant” solution, would be routed to a solar evaporation pond system where the potassium-bearing salts would be separated out. The solid potassium-bearing salts would be harvested from the ponds and routed to a flotation plant for ore refinement. This solution mining operation would occur on or within Federal, State, and private surface lands and mineral leases. The proposed action consists of the following:

• Extracting and conditioning groundwater from four wells that draw from the Rustler Formation to create the saline water injectate;

• Injecting this saline water via six injection wells and a surface piping system into the topographically lower portion of the former underground workings;

• Extracting the pregnant brine from five extraction wells;

• Pumping the brine via a surface piping system to solar evaporation ponds;

• Harvesting precipitated potash at the solar evaporation ponds and transporting it to a new flotation mill;

• Refining the ore into a marketable product;

• Recycling the leftover sodium chloride to condition the injection source groundwater; and

• Reclaiming all project components when the ore is depleted and the infrastructure and equipment are no longer needed.

The expected lifespan of the proposed HB “In-Situ” Solution Mine Project is approximately 28 years. HB Potash, LLC, estimates the project will consume approximately 1,774 acre-feet of saline, non-potable water each year. The proposed HB “In-Situ” Solution Mine Project is located in Eddy County, New Mexico. The area includes portions of Township 19 South, Range 30 and 31 East, Township 20 South, Ranges 29, 30 and 31 East and Township 21 South, Ranges 29 and 30 East, New Mexico Principal Meridian. The project area is located within the Carlsbad Potash Mining District and is part of the Secretary's Potash Area, designated under the 1986 Secretarial Order. The Secretarial Order was issued by the Secretary of the Interior and is titled Oil, Gas, and Potash Leasing and Development Within the Designated Potash Area of Eddy and Lea Counties, New Mexico, 51 FR 39425 (October 28, 1986), as corrected at 52 FR 32171 (August 26, 1987).

The proposed HB “In-Situ” Solution Mine Project area encompasses approximately 38,453 acres (60.08 square miles). The surface ownership of these lands is approximately as follows:

• Federal Lands: 31,439 acres.

• State Lands: 4,954 acres.

• Private Lands: 2,060 acres.

Of the 38,453-acre proposed project area, the actual extent of the open mine workings and proposed flood zone is only a small portion of the project area as follows:

• Project Area: 38,453 acres.

• Targeted Open Mine Workings: 11,100 acres.

• Flood Zone within the Open Mine Workings: 4,330 acres.

A number of alternatives in addition to the proposed action, including the no action alternative, will be evaluated in the EIS in accordance with NEPA. Alternatives may include consideration of conventional underground mining of remaining reserves; more extensive in-situ mining; smaller in-situ flood extent; and alternatives of the project components (e.g., pipeline burial, alternative pipeline routes, alternative water supplies, using existing facilities for ore processing, and alternative solar pond locations). The purpose of the public scoping process is to determine relevant issues that will influence the scope of the environmental analysis, including alternatives, and guide the process for developing the EIS. At present, the BLM has identified the following preliminary issues: Oil and gas resources, land subsidence, hydrology, air quality, water quality and quantity, underground mine workings, socioeconomics, migratory birds, rangeland resources, recreation and cultural resources.

You may submit comments on issues, the project as proposed, other feasible alternatives, possible mitigation measures, and any other information relevant to the proposed action by writing to the BLM, or attending a public scoping meeting, or you may submit them to the BLM using one of the methods listed in the ADDRESSES section above. Comments, including the names and addresses of the commenter, will be available for public inspection at the BLM's Carlsbad Field Office during business hours (7:45 a.m. to 4:30 p.m.), Monday through Friday, except Federal holidays. The minutes and list of attendees for each scoping meeting will also be available to the public after each meeting and to any participant who wishes to clarify the views he or she expressed. The BLM will utilize and coordinate the NEPA commenting process to satisfy the public involvement process required for Section 106 of the National Historic Preservation Act (NHPA) (16 U.S.C. 470f) as provided for in 36 CFR § 800.2(d)(3). Native American Tribal consultations also will be conducted and Tribal concerns will be given due consideration, including impacts on Indian trust assets. Federal, State, and local agencies, along with other stakeholders that may be interested in or affected by the BLM's decision on this project, are invited to participate in the scoping process and, if eligible, may request or be requested by the BLM to participate as a cooperating agency. Before including your address, phone number, e-mail address, or other personal identifying information in your comment, you should be aware that your entire comment—including your personal identifying information—may be made publicly available at any time. While you can ask us in your comment to withhold your personal identifying information from public review, we cannot guarantee that we will be able to do so.

Authority: 40 CFR 1501.7.

Jesse Juen,
Acting State Director.

[FR Doc. 2010-306 Filed 1-11-10; 8:45 am]

BILLING CODE 4310-OX-P